Title 3—

The President

Memorandum of April 16, 2010

A 21st Century Strategy for America's Great Outdoors

Memorandum for the Secretary of the Interior[,] the Secretary of Agriculture[,] the Administrator of the Environmental Protection Agency[, and] the Chair of the Council on Environmental Quality

Americans are blessed with a vast and varied natural heritage. From mountains to deserts and from sea to shining sea, America's great outdoors have shaped the rugged independence and sense of community that define the American spirit. Our working landscapes, cultural sites, parks, coasts, wild lands, rivers, and streams are gifts that we have inherited from previous generations. They are the places that offer us refuge from daily demands, renew our spirits, and enhance our fondest memories, whether they are fishing with a grandchild in a favorite spot, hiking a trail with a friend, or enjoying a family picnic in a neighborhood park. They also are our farms, ranches, and forests—the working lands that have fed and sustained us for generations. Americans take pride in these places, and share a responsibility to preserve them for our children and grandchildren.

Today, however, we are losing touch with too many of the places and proud traditions that have helped to make America special. Farms, ranches, forests, and other valuable natural resources are disappearing at an alarming rate. Families are spending less time together enjoying their natural surroundings. Despite our conservation efforts, too many of our fields are becoming fragmented, too many of our rivers and streams are becoming polluted, and we are losing our connection to the parks, wild places, and open spaces we grew up with and cherish. Children, especially, are spending less time outside running and playing, fishing and hunting, and connecting to the outdoors just down the street or outside of town.

Across America, communities are uniting to protect the places they love, and developing new approaches to saving and enjoying the outdoors. They are bringing together farmers and ranchers, land trusts, recreation and conservation groups, sportsmen, community park groups, governments and industry, and people from all over the country to develop new partnerships and innovative programs to protect and restore our outdoors legacy. However, these efforts are often scattered and sometimes insufficient. The Federal Government, the Nation's largest land manager, has a responsibility to engage with these partners to help develop a conservation agenda worthy of the 21st Century. We must look to the private sector and nonprofit organizations, as well as towns, cities, and States, and the people who live and work in them, to identify the places that mean the most to Americans, and leverage the support of the Federal Government to help these community-driven efforts to succeed. Through these partnerships, we will work to connect these outdoor spaces to each other, and to reconnect Americans to them.

For these reasons, it is hereby ordered as follows:

Section 1. Establishment.

(a) There is established the America's Great Outdoors Initiative (Initiative), to be led by the Secretaries of the Interior and Agriculture, the Administrator of the Environmental Protection Agency, and the Chair of the Council on Environmental Quality (CEQ) and implemented in coordination with the agencies listed in section 2(b) of this memorandum. The Initiative may include the heads of other executive branch departments, agencies, and offices (agencies) as the President may, from time to time, designate.

(b) The goals of the Initiative shall be to:

(i) Reconnect Americans, especially children, to America's rivers and waterways, landscapes of national significance, ranches, farms and forests, great parks, and coasts and beaches by exploring a variety of efforts, including:

(A) promoting community-based recreation and conservation, including local parks, greenways, beaches, and waterways;

(B) advancing job and volunteer opportunities related to conservation and outdoor recreation; and

(C) supporting existing programs and projects that educate and engage Americans in our history, culture, and natural bounty.

(ii) Build upon State, local, private, and tribal priorities for the conservation of land, water, wildlife, historic, and cultural resources, creating corridors and connectivity across these outdoor spaces, and for enhancing neighborhood parks; and determine how the Federal Government can best advance those priorities through public private partnerships and locally supported conservation strategies.

(iii) Use science-based management practices to restore and protect our lands and waters for future generations.

Sec. 2. Functions. The functions of the Initiative shall include:

(a) Outreach. The Initiative shall conduct listening and learning sessions around the country where land and waters are being conserved and community parks are being established in innovative ways. These sessions should engage the full range of interested groups, including tribal leaders, farmers and ranchers, sportsmen, community park groups, foresters, youth groups, businesspeople, educators, State and local governments, and recreation and conservation groups. Special attention should be given to bringing young Americans into the conversation. These listening sessions will inform the reports required in subsection (c) of this section.

(b) Interagency Coordination. The following agencies shall work with the Initiative to identify existing resources and align policies and programs to achieve its goals:

(i) the Department of Defense;

(ii) the Department of Commerce;

(iii) the Department of Housing and Urban Development;

(iv) the Department of Health and Human Services;

(v) the Department of Labor;

(vi) the Department of Transportation;

(vii) the Department of Education; and

(viii) the Office of Management and Budget (OMB).

(c) Reports. The Initiative shall submit, through the Chair of the CEQ, the following reports to the President:

(i) Report on America's Great Outdoors. By November 15, 2010, the Initiative shall submit a report that includes the following:

(A) a review of successful and promising nonfederal conservation approaches;

(B) an analysis of existing Federal resources and programs that could be used to complement those approaches;

(C) proposed strategies and activities to achieve the goals of the Initiative; and

(D) an action plan to meet the goals of the Initiative.

The report should reflect the constraints in resources available in, and be consistent with, the Federal budget. It should recommend efficient and effective use of existing resources, as well as opportunities to leverage nonfederal public and private resources and nontraditional conservation programs.

(ii) Annual reports. By September 30, 2011, and September 30, 2012, the Initiative shall submit reports on its progress in implementing the action plan developed pursuant to subsection (c)(i)(D) of this section.

Sec. 3. General Provisions.

(a) This memorandum shall be implemented consistent with applicable law and subject to the availability of any necessary appropriations.

(b) This memorandum does not create any right or benefit, substantive or procedural, enforceable at law or in equity by any party against the United States, its departments, agencies, or entities, its officers, employees, or agents, or any other person.

(c) The heads of executive departments and agencies shall assist and provide information to the Initiative, consistent with applicable law, as may be necessary to carry out the functions of the Initiative. Each executive department and agency shall bear its own expenses of participating in the Initiative.

(d) Nothing in this memorandum shall be construed to impair or otherwise affect the functions of the Director of the OMB relating to budgetary, administrative, or legislative proposals.

(e) The Chair of the CEQ is authorized and directed to publish this memorandum in the Federal Register.

THE WHITE HOUSE,

Washington, April 16, 2010

[FR Doc. 2010-9286

Filed 4-19-10; 11:15 am]

Billing code 3125-W0-P